DEPARTMENT OF COMMERCE

National Oceanic and Atmospheric Administration

RIN 0648-XA645

Endangered and Threatened Species; Take of Anadromous Fish

AGENCY: National Marine Fisheries Service (NMFS), National Oceanic and Atmospheric Administration (NOAA), Commerce.

ACTION: Notice of receipt and request for comment.

SUMMARY: Notice is hereby given that NMFS has received an application from the Washington Department of Fish and Wildlife (WDFW), for a direct take permit pursuant to the Endangered Species Act of 1973, as amended (ESA). The duration of the proposed Permit is ten years. This document serves to notify the public of the availability for comment of the permit application. All comments received will become part of the public record and will be available for review pursuant to the ESA.

DATES: Written comments on the application must be received at the appropriate address or fax number (see ADDRESSES) no later than 5 p.m. Pacific time on September 19, 2011.

ADDRESSES: Written responses to the application should be sent to Brian Allee, National Marine Fisheries Services, Salmon Management Division, 1201 N.E. Lloyd Boulevard, Suite 1100, Portland, OR 97232. Comments may also be submitted by e-mail to: LowerColumbiaWeirs.nwr@noaa.gov. Include in the subject line of the e-mail comment the following identifier: Comments on three weirs in the Lower Columbia. Comments may also be sent via facsimile (fax) to (503) 872-2737. Requests for copies of the permit applications should be directed to the National Marine Fisheries Services, Salmon Management Division, 1201 NE. Lloyd Boulevard, Suite 1100, Portland, OR 97232. The documents are also available on the Internet at http://www.nwr.noaa.gov. Comments received will also be available for public inspection, by appointment, during normal business hours by calling (503) 230-5412.

FOR FURTHER INFORMATION CONTACT: Brian Allee at (503) 231-2009 or e-mail: brian.allee@noaa.gov.

SUPPLEMENTARY INFORMATION:

Species Covered in This Notice

Chinook salmon (Oncorhynchus tshawytscha): threatened, naturally produced and artificially propagated Lower Columbia River.

Chum salmon (O. keta): threatened, naturally produced and artificially propagated Columbia River.

Coho salmon (O. kisutch): threatened, naturally produced and artificially propagated Lower Columbia River.

Steelhead (O. mykiss): threatened, naturally produced and artificially propagated Lower Columbia River.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

In an application dated May 2, 2011, and updated on May 23, 2011, the Washington Department of Fish and Wildlife proposes to install weirs in the Grays River and Elochoman River, both tributaries of the Columbia River, and the Coweeman River, a tributary of the Cowlitz River in southwest Washington State. The weir on the Grays River would represent a re-location of an existing weir. The weirs are intended to address adult salmonid monitoring needs outlined in the Lower Columbia Fish Recovery Board's Watershed Conservation Plan through development of accurate and precise abundance estimates, and remove hatchery fall Chinook salmon from naturally spawning tule fall Chinook salmon populations.

Authority

This notice is provided pursuant to section 10(c) of the ESA. NMFS will evaluate each application, associated documents, and comments submitted thereon to determine whether the applications meet the requirements of section 10(a)(1)(A) of the ESA. If it is determined that the requirements are met, the permit will be issued to WDFW for the purpose of carrying out the installation, operation, and management of the weirs. NMFS will publish a record of its final action in the Federal Register.

Dated: August 15, 2011.
Angela Somma,
Chief, Endangered Species Division, Office of Protected Resources, National Marine Fisheries Service.

[FR Doc. 2011-21111 Filed 8-17-11; 8:45 am]

BILLING CODE 3510-22-P